DEPARTMENT OF HOMELAND SECURITY

Bureau of Customs and Border Protection

Notice of Cancellation of Customs Broker License

AGENCY: Bureau of Customs and Border Protection, U.S. Department of Homeland Security.

ACTION: General notice.

SUMMARY: Pursuant to section 641 of the Tariff Act of 1930, as amended, (19 U.S.C. 1641) and the Customs Regulations (19 CFR 111.51), the following Customs broker license and any and all associated local and national permits are canceled without prejudice:

Name | License # | Issuing port
Ronald Milton Clarke | 03549 | Los Angeles.
Edward K. Devlin | 04174 | Los Angeles.
Jesse Peralez | 04783 | Los Angeles.
Elio Vivante | 07102 | Los Angeles.
Robert K. Copeland | 07382 | Los Angeles.
Emerald Customs Brokers, Inc. | 13115 | Los Angeles.
Lisa Kearney | 15340 | Champlain.
James A. Daily | 04341 | Champlain.
Midas Express, Inc. | 12860 | San Francisco.

Dated: August 20, 2003.
Jayson P. Ahern,
Assistant Commissioner, Office of Field Operations.

[FR Doc. 03-22063 Filed 8-27-03; 8:45 am]

BILLING CODE 4820-02-P